ENVIRONMENTAL PROTECTION AGENCY

[OECA-2004-0048; FRL-7945-6]

Agency Information Collection Activities; Submission for OMB Review and Approval; Comment Request; NESHAP for Carbon Black, Ethylene, Cyanide, and Spandex (Renewal), ICR Number 1983.04, OMB Number 2060-0489

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on August 31, 2005. Under OMB regulations, the Agency may continue to conduct or sponsor the collection of information while this submission is pending at OMB. This ICR describes the nature of the information collection and its estimated burden and cost.

DATES: Additional comments may be submitted on or before August 29, 2005.

ADDRESSES: Submit your comments, referencing docket ID number OECA-2004-0048, to (1) EPA online using EDOCKET (our preferred method), by e-mail to docket.oeca@epa.gov, or by mail to: Environmental Protection Agency, EPA Docket Center (EPA/DC), Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Marcia B. Mia, Compliance Assessment and Media Programs Division, Office of Compliance, Mail Code: 2223A, United States Environmental Protection Agency, 1200 Pennsylvania Avenue, NW., Washington, DC 20460; telephone number: (202) 564-7042; fax number: (202) 564-0050; e-mail address: mia.marcia@epa.gov.

SUPPLEMENTARY INFORMATION: EPA has submitted the following ICR to OMB for review and approval according to the procedures prescribed in 5 CFR 1320.12. On December 1, 2004 (69 FR 69909), EPA sought comments on this ICR pursuant to 5 CFR 1320.8(d). EPA received no comments.

EPA has established a public docket for this ICR under Docket ID Number OECA-2004-0048, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is: (202) 566-1752. An electronic version of the public docket is available through EPA Dockets (EDOCKET) at http://www.epa.gov/edocket. Use EDOCKET to submit or view public comments, to access the index listing of the contents of the public docket, and to access those documents in the public docket that are available electronically. When in the system, select “search,” then key in the docket ID number identified above.

Any comments related to this ICR should be submitted to EPA and OMB within 30 days of this notice. EPA's policy is that public comments, whether submitted electronically or on paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NESHAP for Carbon Black, Ethylene, Cyanide, and Spandex (40 CFR part 63, subpart YY) (Renewal).

Abstract: This ICR is for hazardous air pollutant (HAP) emission sources in the carbon black (CB) production, cyanide (CY) chemicals manufacturing, ethylene (ET) production, and spandex (SP) production source categories. For the purposes of this ICR the phrases “cyanide chemicals manufacturing,” “cyanide production,” and “CY production” have the same meaning.

The recordkeeping and reporting requirements in the standards ensure compliance with the applicable regulations which were promulgated in accordance with the Clean Air Act (CAA).The collected information is also used for targeting inspections and as evidence in legal proceedings.

Performance tests are required in order to determine an affected facility's initial capability to comply with the emission standards. In addition, continuous emission monitors are used to ensure that the respondent complies with the standards at all times. During the performance test, a record of the operating parameters under which compliance was achieved may be recorded and used to determine compliance in place of a continuous emission monitor.

The notifications required in the standards are used to inform the Agency or delegated authority when a source becomes subject to the requirements of the regulations. The reviewing authority may then inspect the source to ensure that the pollution control devices are properly installed and operated, that leaks are detected and repaired, and that the standards are met. The performance test may also be observed.

The required reports are used to determine periods of excess emissions, identify problems at the facility, verify operation and maintenance procedures, and for compliance determinations.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average 90 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Producers of Carbon Black, Cyanide, Ethylene or Spandex.

Estimated Number of Respondents: 72.

Frequency of Response: Annually, semiannually and on occasion.

Estimated Total Annual Hour Burden: 13,533 hours.

Estimated Total Annual Costs: $1,439,150, which includes $0 annualized capital/startup costs, $359,000 annual O&M costs, and $1,080,150 annual labor costs.

Changes in the Estimates: There is a decrease of 20,393 hours in the total estimated burden currently identified in the OMB Inventory of Approved ICR Burdens. This decrease is because the previous ICR included some items in the inventory (e.g., control equipment related) that are not consistent with the concept of burden. Additionally, the previous ICR overestimated the time and frequency to prepare startup, shutdown and malfunction (SS&M) reports, and the time to store, file and maintain records and to retrieve records and reports.

The Capital/Startup costs as calculated in this ICR's section 6(b)(iii) compared with the costs in the previous ICR have decreased. Since the previous ICR covered initial compliance with the standard, the costs were mostly associated with the purchase of monitors and control equipment. Since there are no new sources for the three years covered by this ICR, the costs will be only be O&M costs.

Dated: July 19, 2005.
Oscar Morales,
Director, Collection Strategies Division.

[FR Doc. 05-14934 Filed 7-27-05; 8:45 am]

BILLING CODE 6560-50-P